ENVIRONMENTAL PROTECTION AGENCY

[FRL-8719-4]

Public Water System Supervision Program Revisions for the State of Nevada

AGENCY: Environmental Protection Agency (EPA).

ACTION: Notice of tentative approval.

SUMMARY: Notice is hereby given that the State of Nevada has revised its approved Public Water System Supervision Program under the federal Safe Drinking Water Act (SDWA), 42 U.S.C. 300f et seq., pertaining to administrative penalty authority and the definition of public water system.

Nevada first assumed primary enforcement authority (“primacy”) for the Public Water System Supervision Program (“PWSSP”) on March 29, 1978. EPA has determined that these revisions to the State's PWSSP are no less stringent than the corresponding Federal regulations and otherwise meet applicable SDWA primacy requirements for the PWSSP. Therefore, EPA intends to approve these revisions to the State of Nevada's approved PWSSP. Today's approval action does not extend to public water systems in Indian Country, as defined at 18 U.S.C. 1151.

DATES: Any interested party may submit written comments on this determination and request a public hearing. All comments will be considered and, if necessary, EPA will issue a response. A request for a public hearing must be submitted by October 24, 2008, to the Regional Administrator at the EPA Region 9 address shown below. The Regional Administrator may deny frivolous or insubstantial requests for a hearing. If a substantial request for a public hearing is made by October 24, 2008, EPA Region 9 will hold a public hearing. If EPA Region 9 does not receive a timely and appropriate request for a hearing and the Regional Administrator does not elect to hold a hearing on his own motion, this determination shall become final and effective on October 24, 2008.

Any request for a public hearing shall include the following information:

1. The name, address, and telephone number of the individual, organization, or other entity requesting a hearing.

2. A brief statement of the requesting person's interest in the Regional Administrator's determination and a brief statement of the information that the requesting person intends to submit at such hearing.

3. The signature of the individual making the request, or, if the request is made on behalf of an organization or other entity, the signature of a responsible official of the organization or other entity.

ADDRESSES: All documents relating to this determination are available for inspection at the following offices Monday through Friday between the hours of 8:30 a.m. and 4:30 p.m.:

1. Bureau of Safe Drinking Water, Nevada Division of Environmental Protection, 901 South Stewart Street, 3rd Floor-East, Carson City, Nevada 89701.

2. United States Environmental Protection Agency, Region 9, Drinking Water Office, 75 Hawthorne Street (WTR-6), San Francisco, California 94105.

FOR FURTHER INFORMATION CONTACT: Sara Jacobs, EPA Region 9, Drinking Water Office, at the address given above, by telephone at (415) 972-3564, or by e-mail at jacobs.sara@epa.gov.

Authority: Section 1413 of the Safe Drinking Water Act, as amended, 42 U.S.C. 300g-2 (1996), and 40 CFR part 142.

Dated: September 13, 2008.
Alexis Strauss,
Acting Regional Administrator, Region 9.

[FR Doc. E8-22464 Filed 9-23-08; 8:45 am]

BILLING CODE 6560-50-P